DEPARTMENT OF HEALTH AND HUMAN SERVICES

National Institutes of Health

Office of the Director, Program on Biosecurity and Biosafety Policy; Notice of Meeting

Pursuant to section 10(a) of the Federal Advisory Committee Act, as amended (5 U.S.C. App.), notice is hereby given of the meeting of the National Science Advisory Board for Biosecurity (NSABB).

Name of Committee: National Science Advisory Board for Biosecurity.

Date: October 22, 2014.

Time: 8:00 a.m.-4:00 p.m. Eastern Time (Times are approximate and subject to change).

Agenda: Presentations and discussions regarding: (1) Overview of recent Federal policies regarding biosafety and biosecurity; and (2) other business of the Board.

Place: National Institutes of Health, Building 31; 6th Floor, Conference Room 6, Bethesda, Maryland.

Contact Person: Carolyn Mosby, NSABB Program Assistant, NIH Program on Biosecurity and Biosafety Policy, 6705 Rockledge Drive, Suite 750, Bethesda, Maryland 20892, (301) 435-5504, carolyn.mosby@nih.gov.

Under authority 42 U.S.C. 217a, Section 222 of the Public Health Service Act, as amended, the Department of Health and Human Services established the NSABB to provide advice regarding federal oversight of dual use research, defined as biological research that generates information and technologies that could be misused to pose a biological threat to public health and/or national security.

The meeting will be open to the public, however pre-registration is strongly recommended due to space limitations. Persons planning to attend may register online at: http://palladianpartners.cvent.com/d/KY8f5UlwH0WnoisQD81oFg/8nfg/P1/1Q or by calling Palladian Partners, Inc. (Contact: Joel Yaccarino at 301-650-8660). Online registration will close at 12:00 p.m. Eastern the day before the meeting. After that time, you will need to register onsite on the day of the meeting, from 7:15 a.m. Eastern. Individuals who plan to attend and need special assistance, such as sign language interpretation or other reasonable accommodations, should indicate these requirements upon registration.

This meeting will also be webcast. To access the webcast and meeting information, including the draft meeting agenda and the registration link, connect to: http://osp.od.nih.gov/office-biotechnology-activities/biosecurity/nsabb/nsabb-meetings-and-conferences. Please check this site for updates.

Time will be allotted on the agenda for oral public comment, with presentations limited to three minutes per speaker. Sign-up for oral public comments will begin at approximately 7:45 a.m. on October 22, 2014, and will be restricted to one sign-in per person. In the event that time does not allow for all those interested to present oral comments, any interested person may file written comments with the committee by forwarding the statement to the Contact Person listed on this notice. The statement should include the name, address, telephone number and when applicable, the business or professional affiliation of the interested person. In addition, any interested person may submit written comments to the NSABB prior to the meeting by sending the comments to the Contact Person listed on this notice by 5:00 p.m. Eastern on October 20, 2014. Written comments should include the name, address, telephone number and when applicable, the business or professional affiliation of the interested person. Any written comments received after the deadline will be provided to the Committee either before or after the meeting, depending on the volume of comments received and the time required to process them in accordance with privacy regulations and other applicable Federal policies.

In the interest of security, NIH has instituted stringent procedures for entrance onto the NIH campus. All visitor vehicles, including taxis, hotel, and airport shuttles will be inspected before being allowed on campus. Visitors will be asked to show one form of identification (for example, a government-issued photo ID, driver's license, or passport) and to state the purpose of their visit.

Dated: October 16, 2014.
David Clary,
Program Analyst, Office of Federal Advisory Committee Policy.

[FR Doc. 2014-25030 Filed 10-21-14; 8:45 am]

BILLING CODE 4140-01-P